SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: January 1, 2012, through January 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f):

1. Chief Oil & Gas, LLC, Pad ID: Kaufmann Drilling Pad #1, ABR-201201001, Wilmot Township, Bradford County, Pa.; Consumptive Use of Up to 2.000 mgd; Approval Date: January 4, 2012.

2. Cabot Oil & Gas Corporation, Pad ID: MacDowallR P1, ABR-201201002, Lenox Township, Susquehanna County, Pa.; Consumptive Use of Up to 3.575 mgd; Approval Date: January 4, 2012.

3. Chief Oil & Gas, LLC, Pad ID: Yoder Drilling Pad #1, ABR-201201003, Leroy Township, Bradford County, Pa.; Consumptive Use of Up to 2.000 mgd; Approval Date: January 4, 2012.

4. Chesapeake Appalachia, LLC, Pad ID: Redbone, ABR-201201004, Wilmot Township, Bradford County, Pa.; Consumptive Use of Up to 7.500 mgd; Approval Date: January 4, 2012.

5. Chesapeake Appalachia, LLC, Pad ID: Raimo, ABR-201201005, Monroe Township, Bradford County, Pa.; Consumptive Use of Up to 7.500 mgd; Approval Date: January 4, 2012.

6. Chesapeake Appalachia, LLC, Pad ID: Kathryn, ABR-201201006, Wilmot Township, Bradford County, Pa.; Consumptive Use of Up to 7.500 mgd; Approval Date: January 4, 2012.

7. Chesapeake Appalachia, LLC, Pad ID: Fox, ABR-201201007, Mehoopany Township, Wyoming County, Pa.; Consumptive Use of Up to 7.500 mgd; Approval Date: January 4, 2012.

8. Chesapeake Appalachia, LLC, Pad ID: Ridenour, ABR-201201008, Cherry Township, Sullivan County, Pa.; Consumptive Use of Up to 7.500 mgd; Approval Date: January 4, 2012.

9. Chesapeake Appalachia, LLC, Pad ID: Elwell, ABR-201201009, Wilmot Township, Bradford County, Pa.; Consumptive Use of Up to 7.500 mgd; Approval Date: January 4, 2012.

10. Citrus Energy Corporation, Pad ID: Macialek 1 Pad, ABR-201201010, Washington Township, Wyoming County, Pa.; Consumptive Use of Up to 5.000 mgd; Approval Date: January 6, 2012.

11. Southwestern Energy Production Company, Pad ID: FLICKS RUN, ABR-201201011, Cogan House Township, Lycoming County, Pa.; Consumptive Use of Up to 4.999 mgd; Approval Date: January 9, 2012.

12. Southwestern Energy Production Company, Pad ID: CHILSON-JENNINGS, ABR-201201012, Herrick Township, Bradford County, Pa.; Consumptive Use of Up to 4.999 mgd; Approval Date: January 9, 2012.

13. Chief Oil & Gas, LLC, Pad ID: Bailey Drilling Pad #1, ABR-201201013, Overton Township, Bradford County, Pa.; Consumptive Use of Up to 2.000 mgd; Approval Date: January 9, 2012.

14. Pennsylvania General Energy Co. LLC, Pad ID: COP Tract 356 Pad J, ABR-201201014, Cummings Township, Lycoming County, Pa.; Consumptive Use of Up to 3.000 mgd; Approval Date: January 10, 2012.

15. EXCO Resources (PA), Inc., Pad ID: Budman Well Pad, ABR-201201015, Franklin Township, Lycoming County, Pa.; Consumptive Use of Up to 8.000 mgd; Approval Date: January 11, 2012.

16. Range Resources—Appalachia, LLC, Pad ID: Cornhill C Unit 1H-5H, ABR-201201016, Cogan House Township, Lycoming County, Pa.; Consumptive Use of Up to 5.000 mgd; Approval Date: January 13, 2012.

17. Range Resources—Appalachia, LLC, Pad ID: Corson, Eugene 1H-6H, ABR-201201017, Anthony Township, Lycoming County, Pa.; Consumptive Use of Up to 5.000 mgd; Approval Date: January 13, 2012.

18. Atlas Resources, LLC, Pad ID: Rhodes Well Pad, ABR-201201018, Gamble Township, Lycoming County, Pa.; Consumptive Use of Up to 3.600 mgd; Approval Date: January 18, 2012.

19. Atlas Resources, LLC, Pad ID: Perry Well Pad, ABR-201201019, Mill Creek Township, Lycoming County, Pa.; Consumptive Use of Up to 3.600 mgd; Approval Date: January 18, 2012.

20. Range Resources—Appalachia, LLC, Pad ID: Ogontz Fishing Club 41H-44H, ABR-201201020, Cummings Township, Lycoming County, Pa.; Consumptive Use of Up to 5.000 mgd; Approval Date: January 23, 2012.

21. SWEPI LP, Pad ID: Jones 276, ABR-201201021, Jackson Township, Tioga County, Pa.; Consumptive Use of Up to 4.000 mgd; Approval Date: January 25, 2012.

22. SWEPI LP, Pad ID: Tolbert 263, ABR-201201022, Jackson Township, Tioga County, Pa.; Consumptive Use of Up to 4.000 mgd; Approval Date: January 25, 2012.

23. Carrizo (Marcellus), LLC, Pad ID: Trecoske North Pad, ABR-201201023, Silver Lake Township, Susquehanna County, Pa.; Consumptive Use of Up to 2.100 mgd; Approval Date: January 25, 2012.

24. Carrizo (Marcellus), LLC, Pad ID: Trecoske South Pad, ABR-201201024, Silver Lake Township, Susquehanna County, Pa.; Consumptive Use of Up to 2.100 mgd; Approval Date: January 25, 2012.

25. Southwestern Energy Production Company, Pad ID: HEBDA-VANDERMARK, ABR-201201025, Stevens Township, Bradford County, Pa.; Consumptive Use of Up to 4.999 mgd; Approval Date: January 27, 2012.

26. Southwestern Energy Production Company, Pad ID: TONYA WEST, ABR-201201026, New Milford Township, Susquehanna County, Pa.; Consumptive Use of Up to 4.999 mgd; Approval Date: January 27, 2012.

27. Southwestern Energy Production Company, Pad ID: GOOD, ABR-201201027, Jackson and Cogan House Townships, Lycoming County, Pa.; Consumptive Use of Up to 4.999 mgd; Approval Date: January 27, 2012.

28. Chesapeake Appalachia, LLC, Pad ID: Burkhart, ABR-201201028, Forks Township, Sullivan County, Pa.; Consumptive Use of Up to 7.500 mgd; Approval Date: January 30, 2012.

29. Chesapeake Appalachia, LLC, Pad ID: Calmitch, ABR-201201029, Wilmot Township, Bradford County, Pa.; Consumptive Use of Up to 7.500 mgd; Approval Date: January 30, 2012.

30. Carrizo (Marcellus), LLC, Pad ID: EP Bender B (CC-03) Pad (2), ABR-201201030, Reade Township, Cambria County, Pa.; Consumptive Use of Up to 2.100 mgd; Approval Date: January 30, 2012.

31. SWEPI LP, Pad ID: Barner 709, ABR-201201031, Liberty Township, Tioga County, Pa.; Consumptive Use of Up to 4.000 mgd; Approval Date: January 30, 2012.

32. Seneca Resources Corporation, Pad ID: DCNR 100 Pad L, ABR-201201032, Lewis Township, Lycoming County, Pa.; Consumptive Use of Up to 4.000 mgd; Approval Date: January 31, 2012.

33. Chesapeake Appalachia, LLC, Pad ID: Warburton, ABR-201201033, Forks Township, Sullivan County, Pa.; Consumptive Use of Up to 7.500 mgd; Approval Date: January 31, 2012.

34. Chesapeake Appalachia, LLC, Pad ID: SGL289C, ABR-201201034, West Burlington Township, Bradford County, Pa.; Consumptive Use of Up to 7.500 mgd; Approval Date: January 31, 2012.

35. Chesapeake Appalachia, LLC, Pad ID: Hemlock Valley, ABR-201201035, Pike Township, Bradford County, Pa.; Consumptive Use of Up to 7.500 mgd; Approval Date: January 31, 2012.

36. Chesapeake Appalachia, LLC, Pad ID: Manahan, ABR-201201036, Albany Township, Bradford County, Pa.; Consumptive Use of Up to 7.500 mgd; Approval Date: January 31, 2012.

37. Chesapeake Appalachia, LLC, Pad ID: Messersmith, ABR-201201037, Wilmot Township, Bradford County, Pa.; Consumptive Use of Up to 7.500 mgd; Approval Date: January 31, 2012.

38. Chesapeake Appalachia, LLC, Pad ID: Lyon, ABR-201201038, Tuscarora Township, Bradford County, Pa.; Consumptive Use of Up to 7.500 mgd; Approval Date: January 31, 2012.

39. Chief Oil & Gas, LLC, Pad ID: Myers Unit Drilling Pad #1, ABR-201201039, Burlington Township, Bradford County, Pa.; Consumptive Use of Up to 2.000 mgd; Approval Date: January 31, 2012.

40. Chief Oil & Gas, LLC, Pad ID: Hurley Drilling Pad #1, ABR-201201040, Cherry Township, Sullivan County, Pa.; Consumptive Use of Up to 2.000 mgd; Approval Date: January 31, 2012.

Authority: Pub. L. 91-575, 84 Stat. 1509 et seq., 18 CFR Parts 806, 807, and 808.

Dated: March 9, 2012.
Stephanie L. Richardson,
Secretary to the Commission.

[FR Doc. 2012-6704 Filed 3-19-12; 8:45 am]

BILLING CODE 7040-01-P